DEPARTMENT OF EDUCATION

[CFDA No. 84.033]

Student Financial Assistance, Federal Work-Study Programs; Notice of the Closing Date for Submission of the Campus-Based Reallocation Form (ED Form E40-4P)

SUMMARY: The Secretary gives notice that institutions of higher education participating in the Federal Work-Study (FWS) Program must submit the Campus-Based Reallocation Form by August 25, 2000 to request supplemental FWS funds for the 2000-2001 award year (July 1, 2000 through June 30, 2001). The information collected is used to determine whether an institution is eligible to receive supplemental FWS funds for the 2000-2001 award year.

DATES: Closing Date and Method for Submitting a Campus-Based Reallocation Form. If you participated in the FWS Program for the 1999-2000 award year and want to ensure that you will be considered for supplemental FWS funds for the 2000-2001 award year, you must submit the electronic Campus-Based Reallocation Form by August 25, 2000.

The new Fiscal Operations Report for 1999-2000 and Application to Participate for 2001-2002 (FISAP) software that you received in July 2000 also contains the Campus-Based Reallocation Form (E-40-4P). The Campus-Based Reallocation Form electronic data must be transmitted via the Department's Student Aid Internet Gateway (formerly Title IV Wide Area Network or Title IV WAN). Specific information on this electronic transmission is provided in “Dear Partner” letter CB-00-11 that was issued in July 2000. Transmit the Reallocation Form data to us only if you are releasing 1999-2000 campus-based funds or are requesting supplemental 2000-2001 FWS funds.

Although the FISAP is not due until October 1, 2000, you must complete the Campus-Based Reallocation Form electronic data transmission prior to midnight, Eastern time, on August 25, 2000. (For purposes of this notice, this deadline means that an institution has all of August 25, 2000, to transmit electronically.)

SUPPLEMENTARY INFORMATION: The Department will reallocate unexpended FWS Federal funds from the 1999-2000 award year as supplemental allocations for the 2000-2001 award year under the FWS Program. Supplemental allocations will be issued this fall in accordance with the reallocation procedures contained in the Higher Education Act of 1965, as amended (HEA). Under section 442(d) of the HEA, unexpended FWS funds returned to the Secretary must be reallocated to eligible institutions that used at least 10 percent of the total FWS Federal funds granted to the institution to compensate students employed in community services. Because reallocated FWS funds will be distributed on the basis of fair share shortfall criteria, you must also have a fair share shortfall to receive these funds. A fair share shortfall means that you have an unmet need for FWS funds as determined by the FWS allocation formula in the HEA that uses data reported on the FISAP. You must use all the reallocated FWS Federal funds to compensate students employed in community services. To ensure consideration for supplemental FWS Federal funds for the 2000-2001 award year, you must submit the Campus-Based Reallocation Form data by August 25, 2000.

Applicable Regulations

The following regulations apply to the Federal Work-Study Program:

(1) Student Assistance General Provisions, 34 CFR part 668.

(2) General Provisions for the Federal Perkins Loan Program, Federal Work-Study Program, and Federal Supplemental Educational Opportunity Grant Program, 34 CFR part 673.

(3) Federal Work-Study Programs, 34 CFR part 675.

(4) Institutional Eligibility under the Higher Education Act of 1965, as amended, 34 CFR part 600.

(5) New Restrictions on Lobbying, 34 CFR part 82.

(6) Governmentwide Debarment and Suspension (Nonprocurement) and Governmentwide Requirements for Drug-Free Workplace (Grants), 34 CFR part 85.

(7) Drug-Free Schools and Campuses, 34 CFR part 86.

FOR FURTHER INFORMATION CONTACT: For technical assistance concerning the Campus-Based Reallocation Form or other operational procedures of the campus-based programs, contact Mr. Milton Thomas, Jr., Student Financial Assistance, U.S. Department of Education, 400 Maryland Avenue, SW., Portals Building, Suite 600D, Washington, DC 20202-5353. Telephone (202) 708-9756. Individuals who use a telecommunications device for the deaf (TDD) may call the Federal Information Relay Service (FIRS) at 1-800-877-8339.

Individuals with disabilities may obtain this document in an alternate format (e.g., Braille, large print, audiotape or computer diskette) by contacting the Alternate Format Center at (202) 260-9895 between 8:30 a.m. and 4:30 p.m., Eastern time, Monday through Friday.

Electronic Access to this Document

You may view this document, as well as all other Department of Education documents published in the Federal Register, in text or Adobe Portable Document Format (PDF) on the Internet at either of the following sites:

http://ocfo.ed.gov/fedreg.htm

http://www.ed.gov/news.html

To use the PDF version you must have Adobe Acrobat Reader, which is available free at either of the previous sites. If you have questions about using the PDF version, call the U.S. Government Printing Office (GPO), toll free at 1-888-293-6498 or in the Washington, DC area at (202) 512-1530.

Note: The official version of this document is the document published in the Federal Register. Free internet access to the official edition of the Federal Register and the code of Federal Regulations is available on GPO Access at: http://www.access.gpo.gov/nara/index.html

Program Authority: 42 U.S.C. 2752.

Dated: July 24, 2000.
Greg Woods,
Chief Operating Officer, Student Financial Assistance.

[FR Doc. 00-19069 Filed 7-25-00; 10:41 am]

BILLING CODE 4000-01-U